DEPARTMENT OF TRANSPORTATION

Federal Aviation Administration

Notice: Letter of Public Notification of the Airports Grants Program Including ARRA Requirements; Information Collection Activity

AGENCY: Federal Aviation Administration (FAA), DOT.

This request is being submitted to OMB via an Emergency Information Collection Request.

SUMMARY: New requirements within the American Recovery and Reimbursement Act of 2009 have made necessary a revision to the OMB-approved collection “Airports Grants Program” to include further burden. The information listed below represents the new totals for the complete “Airports Grants Program” with the new requirements per the American Recovery and Reimbursement Act of 2009.

FOR FURTHER INFORMATION CONTACT: Nancy S. Williams, APP-501 at Nancy.S.Williams@faa.gov, or 202-267-8822.

SUPPLEMENTARY INFORMATION:

Title: Airports Grants Program Including ARRA Requirements.

OMB Control Number: 2120-0569.

Forms(s) 5100-100, 5100-101, 5100-108, 5100-126, 5100-127, 5370-1.

Affected Public: An estimated 1,950 Respondents.

Frequency: This information is collected on occasion.

Estimated Average Burden per Response: Approximately 9 hours per response.

Estimated Annual Burden Hours: An estimated 86,240 hours annually.

Abstract: The FAA collects information from airport sponsors and planning agencies in order to administer the Airports Grants Program. Data is used to determine eligibility, ensure proper use of Federal Funds, and ensure project accomplishment.

Issued in Washington, DC, on March 31, 2009.
Carla Mauney,
FAA Information Collection Clearance Officer, IT Enterprises Business Services Division, AES-200.

[FR Doc. E9-7914 Filed 4-9-09; 8:45 am]

BILLING CODE 4910-13-M